DEPARTMENT OF TRANSPORTATION

Office of the Secretary

[Docket No. DOT-OST—2014-0011]

National Freight Advisory Committee: Notice of Public Meeting

ACTION: Notice of Public Meeting.

SUMMARY: The U.S. Department of Transportation (DOT) announces a public meeting of its National Freight Advisory Committee (NFAC) to provide recommendations to the Department as it continues to develop the National Freight Strategic Plan (Plan). Meetings are open to the public and there will be a period of time at the end of the second day of the meeting for public comment.

DATES: Dates and Times: The meeting will be held on Tuesday, March 25, 2014, from 2:00 p.m. to 5:00 p.m., Eastern Standard Time and March 26, 2014 from 10:00 a.m. to 3:15 p.m., Eastern Standard Time.

Location: The meeting will be held at the U.S. Department of Transportation, 1200 New Jersey Avenue SE., Washington, DC 20590.

FOR FURTHER INFORMATION CONTACT: Tretha Chromey, Designated Federal Officer at (202) 366-1999 or freight@dot.gov or visit the NFAC Web site at www.dot.gov/nfac.

SUPPLEMENTARY INFORMATION: Background: The NFAC was established to provide advice and recommendations to the Secretary on matters related to freight transportation in the United States, including (1) implementation of the freight transportation requirements of the Moving Ahead for Progress in the 21st Century Act (MAP-21; Pub. L. 112-141); (2) establishment of the National Freight Network; (3) development of the Plan; (4) development of strategies to help States implement State Freight Advisory Committees and State Freight Plans; (5) development of measures of conditions and performance in freight transportation; (6) development of freight transportation investment, data, and planning tools; and (7) legislative recommendations. The NFAC operates as a discretionary committee under the authority of the DOT, established in accordance with the provisions of the Federal Advisory Committee Act (FACA), as amended, 5 U.S.C. App. 2. See DOT's NFAC Web site for additional information about the committee's activities at www.dot.gov/nfac.

MAP-21 directs the DOT to develop the Plan in consultation with State department of transportations and other appropriate stakeholders. The Plan must include:

(A) An assessment of the condition and performance of the national freight network.

(B) An identification of highway bottlenecks on the national freight network that create significant freight congestion problems, based on a quantitative methodology developed by the Secretary, which shall, at a minimum, include—

(i) information from the Freight Analysis Network of the Federal Highway Administration; and

(ii) to the maximum extent practicable, an estimate of the cost of addressing each bottleneck and any operational improvements that could be implemented.

(C) Forecasts of freight volumes for the 20-year period beginning in the year during which the Plan is issued.

(D) An identification of major trade gateways and national freight corridors that connect major population centers, trade gateways, and other major freight generators for current and forecasted traffic and freight volumes, the identification of which shall be revised, as appropriate, in subsequent plans.

(E) An assessment of statutory, regulatory, technological, institutional, financial, and other barriers to improved freight transportation performance (including opportunities for overcoming the barriers).

(F) An identification of routes providing access to energy exploration, development, installation, or production areas.

(G) Best practices for improving the performance of the national freight network.

(H) Best practices to mitigate the impacts of freight movement on communities.

(I) A process for addressing multistate projects and encouraging jurisdictions to collaborate.

(J) Strategies to improve freight intermodal connectivity.

The Plan serves as a document to outline a long-term strategy to implement the National freight policy. The goals of the National freight policy are related to economic competitiveness and efficiency; congestion; productivity; safety, security, and resilience of freight movement; infrastructure condition; use of advanced technology; performance, innovation, competition, and accountability in the operation and maintenance of the network; and environmental impacts. [23 U.S.C. 167]

Agenda: The two day agenda will include:

(1) Welcome, opening remarks, and introductions;

(2) Update of the Department's National Freight Strategic Plan;

(3) Discussion on proposed recommendations to the DOT on the following elements of the Plan:

• An assessment of statutory, regulatory, technological, institutional, financial, and other barriers to improved freight transportation performance (including opportunities for overcoming the barriers);

• Best practices for improving the performance of the national freight network; and

• Best practices to mitigate the impacts of freight movement on communities.

(4) Public comment, which will occur at the end of day 2.

The meeting agenda will be posted on the NFAC Web site at www.dot.gov/nfac in advance of the meeting.

Public Participation: This meeting will be open to the public. Members of the public who wish to attend in person are asked to RSVP to freight@dot.gov with your name and affiliation no later than March 18, 2014, in order to facilitate entry and guarantee seating.

Services for Individuals with Disabilities: The public meeting is physically accessible to people with disabilities. Individuals requiring accommodations, such as sign language interpretation or other ancillary aids, are asked to notify Ms. Tretha Chromey, at (202) 366-1999 or freight@dot.gov five (5) business days before the meeting.

Written comments: Persons who wish to submit written comments for consideration by the Committee must email freight@dot.gov or send them to Ms. Tretha Chromey, Designated Federal Officer, National Freight Advisory Committee, 1200 New Jersey Avenue SE., W82-320, Washington, DC 20590 by March 18, 2014 to provide sufficient time for review. All other comments may be received at any time before or after the meeting.

Dated: March 4, 2014.
Tretha Chromey,
Designated Federal Officer.

[FR Doc. 2014-05138 Filed 3-7-14; 8:45 am]

BILLING CODE 4910-9X-P